DEPARTMENT OF ENERGY

Federal Energy Regulatory Commission

[Docket No. RP07-425-000]

Northern Natural Gas Company; Notice of Technical Conference

June 27, 2007.

The Commission's May 31, 2007 Order in the above-captioned proceeding,¹ directed that a technical conference be held to discuss Northern Natural Gas Company's proposed gas quality specifications.

¹ Northern Natural Gas Company, 119 FERC ¶ 61,213 (2007).

Take notice that a technical conference will be held on Tuesday, July 24, 2007 at 9 a.m., in a room to be designated at the offices of the Federal Energy Regulatory Commission, 888 First Street, NE., Washington, DC 20426.

FERC conferences are accessible under section 508 of the Rehabilitation Act of 1973. For accessibility accommodations please send an email to accessibility@ferc.gov or call toll free (866) 208-3372 (voice) or 202-502-8659 (TTY), or send a fax to 202-208-2106 with the required accommodations.

All interested parties and staff are permitted to attend. For further information please contact David Faerberg at (202) 502-8275 or e-mail david.faerberg@ferc.gov.

Kimberly D. Bose,
Secretary.

[FR Doc. E7-12936 Filed 7-3-07; 8:45 am]

BILLING CODE 6717-01-P